DEPARTMENT OF COMMERCE

Census Bureau

Submission for OMB Review; Comment Request

The Department of Commerce will submit to the Office of Management and Budget (OMB) for clearance the following proposal for collection of information under the provisions of the Paperwork Reduction Act (44 U.S.C. chapter 35).

Agency: U.S. Census Bureau.

Title: Personal Census Age Search.

OMB Control Number: 0607-0117.

Form Number(s): BC-600, BC-649L, BC-658L.

Type of Request: Extension of currently reviewed collection.

Number of Respondents: 2070.

Average Hours Per Response: BC-600 12 minutes, BC-649L 6 minutes, BC-658L 6 minutes.

Burden Hours: 456 hrs.

Needs and Uses: To locate records for individuals who need proof of age to qualify for social security, old age benefits, retirement benefits, passports, etc.

Affected Public: Individuals without certified proof of age documents.

Frequency: On an as needed basis.

Respondent's Obligation: To submit completed applications and required fees.

Legal Authority: Section 8(a) of Title 13.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: December 18, 2015.
Glenna Mickelson,
Management Analyst, Office of the Chief Information Officer.

[FR Doc. 2015-32300 Filed 12-22-15; 8:45 am]

BILLING CODE 3510-07-P